DEPARTMENT OF COMMERCE

Membership of the Departmental Performance Review Board

AGENCY: Department of Commerce.

ACTION: Notice of membership on the Departmental Performance Review Board.

SUMMARY: The Department of Commerce (DOC) announces the appointment of those individuals who have been selected to serve as members of the Departmental Performance Review Board. The Performance Review Board is responsible for reviewing performance appraisals and ratings of Senior Executive Service (SES) members and making recommendations to the appointing authority on other performance management issues, such as pay adjustments, bonuses and Presidential Rank Awards. The appointment of these members to the Performance Review Board will be for a period of twenty-four (24) months.

DATES: The period of appointment for those individuals selected for the Departmental Performance Review Board begins on August 31, 2018.

FOR FURTHER INFORMATION CONTACT: Christi Casiano, U.S. Department of Commerce, Office of Human Resources Management, Office of Executive Resources, 14th and Constitution Avenue NW, Room 51010, Washington, DC 20230, at (202) 482-0124.

SUPPLEMENTARY INFORMATION: In accordance with 5 U.S.C. 4314(c)(4), the Department of Commerce (DOC), announces the appointment of those individuals who have been selected to serve as members of the Departmental Performance Review Board. The Performance Review Board is responsible for (1) reviewing performance appraisals and ratings of Senior Executive Service (SES) members and (2) making recommendations to the appointing authority on other performance management issues, such as pay adjustments, bonuses and Presidential Rank Awards. The appointment of these members to the Performance Review Board will be for a period of twenty-four (24) months.

The name, position title, and type of appointment of each member of the Performance Review Board are set forth below:

1. Jon Alexander, Deputy Director, Financial Management Systems, Career SES

2. Lisa Blumerman, Chief, Office of Survey and Census Analytics, Career SES

3. Gregory Brown, Chief Financial Officer and Chief Administration Officer, Career SES

4. Renee Macklin, Director of Information Technology for Enterprise Services, Career SES

5. Jeremy Pelter, Chief Financial Officer and Director of Administration, Career SES

6. Stephen Renna, Director, Advocacy Center, Noncareer SES

7. Joseph Semsar, Senior Advisor, Noncareer SES

Christi Casiano,
HR Specialist, Office of Executive Resources, Office of Human Resources Management, Office of the Secretary/Office of the CFO/ASA, Department of Commerce.

[FR Doc. 2018-18969 Filed 8-30-18; 8:45 am]

BILLING CODE 3510-25-P